DEPARTMENT OF AGRICULTURE

Natural Resources Conservation Service

Environmental Assessment; City of Wilber Flood Control, Lower Big Blue Watershed, Saline County, NE

AGENCY: Natural Resources Conservation Service, USDA.

ACTION: Notice of availability, finding of no significant impact.

SUMMARY: The Natural Resources Conservation Service (NRCS) has prepared an Environmental Assessment in compliance with the National Environmental Policy Act (NEPA), as amended. Pursuant to the implementing regulations for NEPA (40 CFR parts 1500-1508); the USDA Departmental Policy for the NEPA (7 CFR part 1b); the Natural Resources Conservation Service Regulations (7 CFR part 650); and the Natural Resources Conservation Service policy (General Manual Title 190, Part 410); the Natural Resources Conservation Service gives notice that an environmental impact statement is not being prepared for constructing a single floodwater retarding dam in the Lower Big Blue Watershed, Saline County, Nebraska. The Environmental Assessment was developed in coordination with the sponsoring local organization (Lower Big Blue Natural Resources District) for a proposed floodwater retarding dam in the Lower Big Blue Watershed to reduce flood damages downstream of the site, including the city of Wilber, Nebraska. Upon consideration of the affected environment, alternatives, environmental consequences, and comments and coordination with concerned public and agencies, the State Conservationist for NRCS, Nebraska found that based on the significance and context and intensity that the proposed action is not a major federal action significantly affecting the quality of the human environment. Thus, a Finding of No Significant Impact (FONSI) was made.

FOR FURTHER INFORMATION CONTACT: Stephen K. Chick, State Conservationist, U.S. Department of Agriculture, Natural Resources Conservation Service, Federal Building, Room 152, 100 Centennial Mall North, Lincoln, Nebraska 68508-3866; telephone (402) 437-5300.

SUPPLEMENTARY INFORMATION: The sponsoring local organization concurs with this determination and supports the proposed project to construct a single floodwater retarding dam to current NRCS High Hazard Class requirements and for a design life expediency of 100 years. The following action is proposed to construct a floodwater retarding dam across an unnamed tributary approximately one-fourth mile upstream from the area of concern and Wilber city limit. Information regarding this finding may be obtained at the contact information listed above. No administrative action on implementation of the proposed funding action will be taken until 30 days after the date of this publication in the Federal Register.

Stephen K. Chick,
State Conservationist.

[FR Doc. E7-12154 Filed 6-21-07; 8:45 am]

BILLING CODE 3410-16-P